DEPARTMENT OF THE INTERIOR

Bureau of Land Management

[WO-320-1310-DT-OSHL]

Notice of Availability of Approved Resource Management Plan Amendments/Record of Decision (ROD) for Oil Shale and Tar Sands Resources To Address Land Use Allocations in Colorado, Utah, and Wyoming and Final Programmatic Environmental Impact Statement

AGENCY: Bureau of Land Management, Interior.

ACTION: Notice of Availability (NOA).

SUMMARY: In accordance with the National Environmental Policy Act of 1969, the Energy Policy Act of 2005 and the Federal Land Policy and Management Act of 1976, the Bureau of Land Management (BLM) announces the availability of the Approved Resource Management Plan Amendments/Record of Decision for Oil Shale and Tar Sands Resources to Address Land Use Allocations in Colorado, Utah, and Wyoming (PRMP Amendments) and Final Programmatic Environmental Impact Statement (FPEIS).

ADDRESSES: The document will be available electronically on the following Web site: http://ostseis.anl.gov. Copies of the Record of Decision (ROD) are available for public inspection at the following BLM Office locations:

• Colorado State Office, 2850 Youngfield Street, Lakewood, CO 80215.

• Utah State Office, 440 West 200 South, Suite 500, Salt Lake City, UT 84101.

• Wyoming State Office, 5353 Yellowstone, Cheyenne, WY 82009.

• Vernal Field Office, 170 South 500 East, Vernal, UT 84078.

• Price Field Office, 125 South 600 West, Price, UT 84501.

• Richfield Field Office, 150 East 900 North, Richfield, UT 84701.

• Monticello Field Office, 435 North Main, P.O. Box 7, Monticello, UT 84535.

• White River Field Office, 220 E. Market Street, Meeker, CO 81641.

• Glenwood Springs Field Office, 2425 S. Grand Ave., Suite 101, Glenwood Springs, CO 81601.

• Grand Junction Field Office, 2815 H Road, Grand Junction, CO 81506.

• Kemmerer Field Office, 312 Highway 189 North, Kemmerer, WY 83101.

• Rawlins Field Office, at 1300 North Third, PO Box 2407, Rawlins, WY 82301.

• Rock Springs Field Office, 280 Highway 191 North, Rock Springs, WY 82901.

FOR FURTHER INFORMATION CONTACT: Sherri Thompson, BLM Project Manager, at (303) 239-3758, (sherri_thompson@blm.gov), Bureau of Land Management, 2850 Youngfield Street, Lakewood, Colorado 80215 or Mitchell Leverette, BLM Division Chief, Solid Minerals, at (202) 452-5088, (mitchell_leverette@blm.gov), Bureau of Land Management, 1620 L Street, NW., Washington, DC 20036.

SUPPLEMENTARY INFORMATION: The decision in the ROD selects Alternative B as the Approved Resource Management Plan Amendments, which would amend 10 land use plans in Colorado, Utah, and Wyoming to make approximately 2 million acres of lands containing oil shale resources available for application for commercial leasing and approximately 430,000 acres available for application for commercial leasing of tar sands.

Because of the strategic importance and multiple state involvement in the process, the Assistant Secretary, Land and Minerals Management, in the Department of the Interior approved the proposed plan amendments on November 17, 2008.

Authority: 40 CFR 1506.6, 43 CFR 1610.2, 43 CFR 1610.5-1.

Dated: November 17, 2008.
C. Stephen Allred,
Assistant Secretary, Land and Minerals Management.

[FR Doc. E8-28348 Filed 11-26-08; 8:45 am]

BILLING CODE 4310-84-P